FEDERAL RETIREMENT THRIFT INVESTMENT BOARD

Sunshine Act Meeting

TIME AND DATE: 8:30 a.m. (Eastern Time) August 21, 2014.

PLACE: 10th Floor Board Meeting, Room 77 K Street NE., Washington, DC 20002.

STATUS: Open to the public.

MATTERS TO BE CONSIDERED:

Open to the Public

1. Approval of the Minutes of the July 28, 2014 Board Member Meeting

2. Monthly Reports

a. Monthly Participant Activity Report

b. Quarterly Investment Report

c. Legislative Report

3. Quarterly Metrics Reports

4. Office of Enterprise Risk Management (OERM) Report

5. FY 15 Budget Review and Approval

CONTACT PERSON FOR MORE INFORMATION: Kimberly Weaver, Director, Office of External Affairs, (202) 942-1640.

Dated: August 12, 2014.
James Petrick,
General Counsel, Federal Retirement Thrift Investment Board.

[FR Doc. 2014-19379 Filed 8-12-14; 4:15 pm]

BILLING CODE 6760-01-P